DEPARTMENT OF ENERGY

Federal Energy Regulatory Commission

[Docket No. RP99-363-004]

Equitrans, L.P.; Notice of Proposed Changes in FERC Gas Tariff

May 23, 2000.

Take notice that on May 19,2000, Equitrans, L.P. (Equitrans) tendered for filing as part of its FERC Gas Tariff, Original Volume No. 1, the following revised tariff sheet to become effective April 1, 2000.

Second Revised Sheet No. 308

Equitrans states that the purpose of this filing is to comply with the Commission's Order issued on May 8, 2000. The Commission found that the filing contained a duplicate numbered tariff sheet First Revised Sheet No. 308 which should have been paginated Second Revised Sheet No. 308. Also, the tariff sheet did not list GISB standards 4.3.2 and 4.3.3 for which an extension was granted. As required by the Commission, Equitrans hereby files the enclosed tariff sheet in compliance with the May 8 Order, to correct the tariff pagination and incorporate the omitted GISB standards.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-13361 Filed 5-26-00; 8:45 am]

BILLING CODE 6717-01-M